COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete product(s) and service(s) from the Procurement List that were furnished by nonprofit agencies employing persons who are blind or have other severe disabilities.

DATES: Comments must be received on or before: December 17, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Product(s)

NSN(s)—Product Name(s):

7530-01-463-2324—Folder, File, ⅓ Cut Tab, Classification, Pressboard, 2 Dividers, 6 Part, Earth Red, Legal

7530-01-463-2326—Folder, File, ⅓ Cut Tab, Classification, Pressboard, 2 Dividers, 6 Part, Blue, Legal

7530-01-463-2330—Folder, File, ⅓ Cut Tab Classification, Pressboard, 1 Divider, 4 Part, Light Green, Letter

7530-01-517-1781—Folder, File, ⅓ Cut Tab, Classification, Pressboard, 2 Dividers, 6 Part, Green, Legal

7530-01-523-4594—Folder, File, ⅓ Cut Tab, Classification, Pressboard, 1 Divider, 4 Part, Earth Red, Letter

Contracting Activity: GSA/FAS ADMIN SVCS ACQUISITION BR(2, NEW YORK, NY

NSN(s)—Product Name(s):

8455-00-NIB-0139—Name Tape, Embroidered, USAF, Tigerstripe

8455-00-NIB-0140—Service Tape, Embroidered, USAF, Tigerstripe

Mandatory Source of Supply: LIONS INDUSTRIES FOR THE BLIND, INC, Kinston, NC

Contracting Activity: FA3016 502 CONS CL JBSA, FORT SAM HOUSTON, TX

Service(s)

Service Type: Switchboard Operation

Mandatory for: US Air Force, Telephone Operator Consolidated Call Center; 180 Benedict Avenue: Joint Base Langley-Eustis, VA

Mandatory Source of Supply: VersAbility Resources, Inc., Hampton, VA

Contracting Activity: DEPT OF THE AIR FORCE, FA4890 ACC AMIC

Service Type: Janitorial/Custodial

Mandatory for: Hannibal Federal Building, 801 Broadway, Hannibal, MO

Contracting Activity: PUBLIC BUILDINGS SERVICE, GSA/PUBLIC BUILDINGS SERVICE

Service Type: Laundry/Dry Cleaning

Mandatory for: US Air Force, 911th Airlift Wing, Pittsburg International Airport ARS, Coraopolis, PA; 2375 Defense Avenue; Coraopolis, PA

Mandatory Source of Supply: Hancock County Sheltered Workshop, Inc., Weirton, WV

Contracting Activity: DEPT OF THE AIR FORCE, FA6712 911 AW LGC

Michael R. Jurkowski,
Acting Director, Business Operations.

[FR Doc. 2023-25418 Filed 11-16-23; 8:45 am]

BILLING CODE 6353-01-P